NUCLEAR REGULATORY COMMISSION

[NRC-2013-0230]

Fiscal Years 2014-2018 Strategic Plan

AGENCY: Nuclear Regulatory Commission.

ACTION: NUREG; issuance.

SUMMARY: The U.S. Nuclear Regulatory Commission (NRC) is announcing the availability of NUREG-1614, Volume 6, “U.S. Nuclear Regulatory Commission Fiscal Years (FY) 2014-2018 Strategic Plan,” dated August 2014. The agency's mission and strategic goals remain unchanged. The NRC's priority continues to be protection of public health and safety, promote the common defense and security, and protect the environment.

DATES: The strategic plan will be available on September 17, 2014.

ADDRESSES: Please refer to Docket ID NRC-2013-0230 when contacting the NRC about the availability of information regarding this document. You may obtain publicly-available information related to this document using any of the following methods:

• Federal Rulemaking Web site: Go to http://www.regulations.gov and search for Docket ID NRC-2013-0230. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The FY 2014-2018 Strategic Plan is available in ADAMS under Accession No. ML14246A439.

• NRC's PDR: You may examine and purchase copies of public documents at the NRC's PDR, Room O1-F21, One White Flint North, 11555 Rockville Pike, Rockville, Maryland 20852.

• NRC's Public Web site: The FY 2014-2018 Strategic Plan may be viewed online on the NRC's Public Web site at http://www.nrc.gov/reading-rm/doc-collections/nuregs/staff/sr1614/.

FOR FURTHER INFORMATION CONTACT: James E. Coyle, Office of the Chief Financial Officer, U.S. Nuclear Regulatory Commission, Washington, DC 20555-0001; telephone: 301-415-6087; email: James.Coyle@nrc.gov.

SUPPLEMENTARY INFORMATION:

I. Discussion

The Government Performance and Results Modernization Act of 2010 requires that an agency's strategic plan be updated for submission to the Congress and the President every 4 years. The NRC has developed a strategic plan for FY 2014-2018.

The agency's mission and strategic goals remain essentially unchanged in the NRC's FY 2014-2018 Strategic Plan. The NRC's priority continues to be, as always, to regulate the civilian use of radioactive materials to protect public health and safety, promote the common defense and security, and protect the environment. The safety goal is to ensure the safe use of radioactive materials. The security goal is to ensure the secure use of radioactive materials. The challenges that the agency faces include being prepared to review applications involving new technologies such as small modular reactors, medical isotope production facilities, and rapidly evolving digital instrumentation and control systems. The globalization of nuclear technology and the nuclear supply chain requires increased international engagement on the safe and secure use of radioactive material. The need for new oversight approaches will also present challenges to the NRC.

The Strategic Plan also describes the agency's cross-cutting strategies for regulatory effectiveness and openness and the management objectives for human capital and information management and information technology. The plan establishes the agency's long-term strategic direction and intended outcomes and provides a foundation to guide the NRC's work and to allocate the NRC's resources.

II. Public Comment Analysis

The draft strategic plan for FY 2014-2018 was published in the Federal Register for public comment on March 5, 2014 (79 FR 12531). All comments were reviewed and considered by the NRC's Senior Management in updating the strategic plan. We received 80 comments from individual members of the public and from various organizations. Staff agreed with the comments that pertained to the strategies contained in the draft plan. Staff disagreed with comments that either suggested changes in the agency's statutory mission or involved too much detail for a strategic plan. A comment resolution matrix reflecting the disposition of public comments is available in ADAMS under Accession No. ML14160A891.

Dated at Rockville, Maryland, this 9th day of September, 2014.
For the Nuclear Regulatory Commission.
David Holley,
Chief, Internal Control and Planning Branch, Division of Planning and Budget, Office of the Chief Financial Officer.

[FR Doc. 2014-22197 Filed 9-16-14; 8:45 am]

BILLING CODE 7590-01-P